DEPARTMENT OF HOMELAND SECURITY

Federal Emergency Management Agency

[Docket ID FEMA-2013-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 19, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Santa Clara County, California, and Incorporated Areas
Docket No.: FEMA-B-1275
City of Campbell | Planning Department, 70 North First Street, Campbell, CA 95008.
City of Milpitas | Engineering Division, 455 East Calaveras Boulevard, Milpitas, CA 95035.
City of San Jose | Department of Public Works, 200 East Santa Clara Street Tower, 3rd Floor, San Jose, CA 95113.
City of Santa Clara | Planning and Inspection Department, 1500 Warburton Avenue, Santa Clara, CA 95050.
City of Saratoga | Planning Department, 13777 Fruitvale Avenue, Saratoga, CA 95070.
Town of Los Gatos | Engineering Services, 110 East Main Street, Los Gatos, CA 95030.
Unincorporated Areas of Santa Clara County | Santa Clara Office of Planning, 70 West Hedding Street, San Jose, CA 95110.
Sonoma County, California, and Incorporated Areas
Docket No.: FEMA-B-1265
City of Petaluma | Community Development Department, 11 English Street, Petaluma, CA 94952.
Unincorporated Areas of Sonoma County | Sonoma County Permit and Resource Management, 2550 Ventura Avenue, Santa Rosa, CA 95403.
Hillsdale County, Michigan (All Jurisdictions)
Docket No.: FEMA-B-1266
City of Hillsdale | City Hall, 97 North Broad Street, Hillsdale, MI 49242.
City of Litchfield | City Council Room, 221 Jonesville Street, Litchfield, MI 49252.
Township of Adams | Adams Township Hall, 5675 Knowles Road, North Adams, MI 49262.
Township of Allen | 139 West Chicago Road, Allen, MI 49227.
Township of Cambria | Cambria Township Hall, 7249 Cambria Road, Hillsdale, MI 49242.
Township of Camden | 13500 Bishop Road, Montgomery, MI 49255.
Township of Fayette | Fayette Township Hall, 211 North Street, Jonesville, MI 49250.
Township of Hillsdale | Township Hall, 2985 West Bacon Road, Hillsdale, MI 49242.
Township of Jefferson | Jefferson Township Hall, 2837 Bird Lake Road South, Osseo, MI 49266.
Township of Litchfield | Township Hall, 9596 Homer Road, Litchfield, MI 49252.
Township of Reading | Township Hall, 5355 South Edon Road/M-49, Reading, MI 49274.
Township of Scipio | 11740 French Road, Litchfield, MI 49252.
Village of Jonesville | Village Hall, 265 East Chicago Street, Jonesville, MI 49250.
City of Carson City, Nevada (Independent City)
Docket No.: FEMA-B-1275
City of Carson City | Permit Center, 108 East Proctor Street, Carson City, NV 89701.
Mecklenburg County, North Carolina, and Incorporated Areas
Docket No.: FEMA-B-1261
City of Charlotte | Mecklenburg County Storm Water Services Office, 700 North Tryon Street, Charlotte, NC 28202.
Town of Matthews | Town Hall, 232 Matthews Station Street, Matthews, NC 28105.
Town of Mint Hill | Town Hall, 4430 Mint Hill Village Lane, Mint Hill, NC 28227.
Town of Pineville | Town Hall, 200 Dover Street, Pineville, NC 28134.
Unincorporated Areas of Mecklenburg County | Mecklenburg County Storm Water Services Office, 700 North Tryon Street, Charlotte, NC 28202.
Union County, North Carolina, and Incorporated Areas
Docket No.: FEMA-B-1261
Town of Indian Trail | Administrative Services, 130 Blythe Drive, Indian Trail, NC 28079.
Town of Stallings | Town Hall, 315 Stallings Road, Stallings, NC 28104.
Town of Weddington | Town Hall, 1924 Weddington Road, Weddington, NC 28104.
Unincorporated Areas of Union County | Union County Office, 500 North Main Street, Monroe, NC 28112.
Village of Marvin | Village Hall, 10004 New Town Road, Marvin, NC 28173.
Waukesha County, Wisconsin, and Incorporated Areas
Docket No.: FEMA-B-1292
City of Delafield | City Hall, 500 Genesee Street, Delafield, WI 53018.
Unincorporated Areas of Waukesha County | Waukesha County Administration Center, 515 West Moreland Boulevard, Waukesha, WI 53188.
Village of Dousman | Village Hall, 118 South Main Street, Dousman, WI 53118.
Village of Hartland | Village Hall, 210 Cottonwood Avenue, Hartland, WI 53029.
Village of Merton | Village Hall, N67W28343 Sussex Road, Merton, WI 53056.
Village of Nashotah | Village Hall, N44W32950 Watertown Plank Road, Nashotah, WI 53058.
Village of Summit | Village Hall, 2911 North Dousman Road, Oconomowoc, WI 53066.
Big Horn County, Wyoming, and Incorporated Areas
Docket No.: FEMA-B-1258
Town of Basin | 209 South 4th Street, Basin, WY 82410.
Town of Byron | 35 South Pryor, Byron, WY 82412.
Town of Cowley | 20 South Division, Cowley, WY 82420.
Town of Deaver | 112 First Avenue West, Deaver, WY 82421.
Town of Frannie | 311 5th Street, Frannie, WY 82423.
Town of Greybull | 24 South 5th Street, Greybull, WY 82426.
Town of Lovell | 336 Nevada Avenue, Lovell, WY 82431.
Town of Manderson | 100 Railway Avenue, Manderson, WY 82432.
Unincorporated Areas of Big Horn County | 417 Murphy Street, Basin, WY 82401.

(Catalog of Federal Domestic Assistance No. 97.022, “Flood Insurance.”)

Dated: December 18, 2013.
Roy E. Wright,
Deputy Associate Administrator for Mitigation, Department of Homeland Security, Federal Emergency Management Agency.

[FR Doc. 2014-00333 Filed 1-10-14; 8:45 am]

BILLING CODE 9110-12-P